DEPARTMENT OF ENERGY

National Petroleum Council

AGENCY: Office of Fossil Energy. Department of Energy.

ACTION: Notice of open meeting.

SUMMARY: This notice announces a meeting of the National Petroleum Council. The Federal Advisory Committee Act requires that public notice of this meeting be announced in the Federal Register. Due to the COVID-19 pandemic, this meeting will be entirely virtual.

DATES: Thursday, December 14, 2021; 9:00 a.m. to 11:30 a.m. (EST).

ADDRESSES: Virtual meeting. Information to access a live stream of the meeting proceedings will be available at www.energy.gov/fecm/national-petroleum-council-npc.

FOR FURTHER INFORMATION CONTACT: Nancy Johnson, U.S. Department of Energy, Office of Fossil Energy and Carbon Management, Office of Resource Sustainability (FECM-30), 1000 Independence Avenue SW, Washington, DC 20585; email: nancy.johnson@hq.doe.gov.

SUPPLEMENTARY INFORMATION: Purpose of the Committee: To provide advice and recommendations to the Secretary of Energy on matters relating to oil and natural gas, and the oil and natural gas industries.

Tentative Agenda:

• Call to Order, Introductory Remarks, and Welcome to WebEx Participants.

• DOE Remarks and Priorities.

• Administrative Matters.

• Discussion of Any Other Business Properly Brought Before the National Petroleum Council.

• Adjournment.

Public Participation: The meeting is open to the public. The Chair of the Council will conduct the meeting to facilitate the orderly conduct of business. Members of the public who would like to make oral statements pertaining to agenda items should contact Nancy Johnson at the postal address or email address listed above. Approximately 15 minutes will be reserved for public comments. The time allocated per speaker will depend on the number of requests received but will not exceed five minutes. Requests for oral statements must be received at least seven days prior to the meeting. Those not able to attend the meeting or having insufficient time to address the Council are invited to send a written statement to nancy.johnson@hq.doe.gov.

Minutes: The minutes of the meeting will be available at www.energy.gov/fecm/national-petroleum-council-npc or by contacting Ms. Johnson. She may be reached at the above postal address or email address.

Signed in Washington, DC, on November 24, 2021.
LaTanya Butler,
Deputy Committee Management Officer.

[FR Doc. 2021-26052 Filed 11-29-21; 8:45 am]

BILLING CODE 6450-01-P